ENVIRONMENTAL PROTECTION AGENCY

40 CFR Part 300

[FRL-7921-6]

National Oil and Hazardous Substance Pollution Contingency Plan; National Priorities List

AGENCY: Environmental Protection Agency.

ACTION: Direct final notice of deletion of the Delatte Metals Superfund Site from the National Priorities List.

SUMMARY: The Environmental Protection Agency (EPA) Region 6 is publishing a direct final notice of deletion of the Delatte Metals Superfund Site (Site), located in Ponchatoula, Tangipahoa Parish, Louisiana, from the National Priorities List (NPL). The NPL, promulgated pursuant to section 105 of the Comprehensive Environmental Response, Compensation, and Liability Act (CERCLA) of 1980, as amended, is appendix B of 40 CFR part 300, which is the National Oil and Hazardous Substances Pollution Contingency Plan (NCP). This direct final notice of deletion is being published by EPA with the concurrence of the State of Louisiana, through the Louisiana Department of Environmental Quality (LDEQ), because EPA has determined that all appropriate response actions under CERCLA have been completed and, therefore, further remedial action pursuant to CERCLA is not appropriate.

DATES: This direct final notice of deletion will be effective August 8, 2005 unless EPA receives adverse comments by July 8, 2005. If adverse comments are received, EPA will publish a timely withdrawal of the direct final notice of deletion in the Federal Register informing the public that the deletion will not take effect.

ADDRESSES: Comments may be mailed to: Beverly Negri, Community Outreach Team Leader, U.S. EPA Region 6 (6SF-PO), 1445 Ross Avenue, Dallas, TX 75202-2733, (214) 665-8157 or 1-800-533-3508 (negri.beverly@epa.gov).

Information Repositories: Comprehensive information about the Site is available for viewing and copying during central standard time at the Site information repositories located at: U.S. EPA Region 6 Library, 7th Floor, 1445 Ross Avenue, Suite 1200, Dallas, Texas 75202-2733, (214) 665-6424, Monday through Friday 9 a.m. to 12 p.m. and 1 p.m. to 4 p.m.; Ponchatoula Branch Library, 380 N. Fifth Street, Ponchatoula, Louisiana, 70454, (985) 386-6554, Monday through Friday 8:30 a.m. to 6:30 p.m.; Saturday 8:30 a.m. to 3:00 p.m.; Louisiana Department of Environmental Quality Public Records Center, Galvez Building Room 127, 602 N. Fifth Street, Baton Rouge, Louisiana, 70802, (225) 219-3168, Monday through Friday 8 a.m. to 4:30 p.m., Email: publicrecords@la.gov, web page: http://www.deq.louisiana.gov/pubrecords.

FOR FURTHER INFORMATION CONTACT: Katrina Higgins-Coltrain, Remedial Project Manager (RPM), U.S. EPA Region 6 (6SF-LP), 1445 Ross Avenue, Dallas, TX 75202-2733, (214) 665-8143 or 1-800-533-3508 (coltrain.katrina@epa.gov).

SUPPLEMENTARY INFORMATION:

Table of Contents

I. Introduction

II. NPL Deletion Criteria

III. Deletion Procedures

IV. Basis for Site Deletion

V. Deletion Action

I. Introduction

The EPA Region 6 office is publishing this direct final notice of deletion of the Delatte Metals Superfund Site from the NPL.

The EPA identifies sites that appear to present a significant risk to public health or the environment and maintains the NPL as the list of those sites. As described in § 300.425(e)(3) of the NCP, sites deleted from the NPL remain eligible for remedial actions if conditions at a deleted site warrant such action.

Because EPA considers this action to be noncontroversial and routine, EPA is taking it without prior publication of a notice of intent to delete. This action will be effective August 8, 2005 unless EPA receives adverse comments by July 8, 2005 on this document. If adverse comments are received within the 30-day public comment period on this document, EPA will publish a timely withdrawal of this direct final notice of deletion before the effective date of the deletion and the deletion will not take effect. The EPA will, as appropriate, prepare a response to comments and continue with the deletion process on the basis of the notice of intent to delete and the comments already received. There will be no additional opportunity to comment.

Section II of this document explains the criteria for deleting sites from the NPL. Section III discusses procedures that EPA is using for this action. Section IV discusses the Delatte Metals Superfund Site and demonstrates how it meets the deletion criteria. Section V discusses EPA's action to delete the Site from the NPL unless adverse comments are received during the public comment period.

II. NPL Deletion Criteria

Section 300.425(e) of the NCP provides that releases may be deleted from the NPL where no further response is appropriate. In making a determination to delete a release from the NPL, EPA shall consider, in consultation with the State, whether any of the following criteria have been met:

i. Responsible parties or other persons have implemented all appropriate response actions required;

ii. All appropriate Fund-financed (Hazardous Substance Superfund Response Trust Fund) response under CERCLA has been implemented, and no further response action by responsible parties is appropriate; or,

iii. The remedial investigation has shown that the release poses no significant threat to public health or the environment and, therefore, the taking of remedial measures is not appropriate.

Even if a site is deleted from the NPL, where hazardous substances, pollutants, or contaminants remain at the deleted site above levels that allow for unlimited use and unrestricted exposure, CERCLA section 121(c), 42 U.S.C. 9621(c) requires that a subsequent review of the site be conducted at least every five years after the initiation of the remedial action at the deleted site to ensure that the action remains protective of public health and the environment. If new information becomes available which indicates a need for further action, EPA may initiate remedial actions. Whenever there is a significant release from a site deleted from the NPL, the deleted site may be restored to the NPL without application of the hazard ranking system.

III. Deletion Procedures

The following procedures apply to deletion of the Site:

(1) The EPA consulted with LDEQ on the deletion of the Site from the NPL prior to developing this direct final notice of deletion.

(2) LDEQ concurred with deletion of the Site from the NPL.

(3) Concurrently with the publication of this direct final notice of deletion, a notice of the availability of the parallel notice of intent to delete published today in the “Proposed Rules” section of the Federal Register is being published in a major local newspaper of general circulation at or near the Site and is being distributed to appropriate federal, state, and local government officials and other interested parties; the newspaper notice announces the 30-day public comment period concerning the notice of intent to delete the Site from the NPL.

(4) The EPA placed copies of documents supporting the deletion in the Site information repositories identified above.

(5) If adverse comments are received within the 30-day public comment period on this document, EPA will publish a timely notice of withdrawal of this direct final notice of deletion before its effective date and will prepare a response to comments and continue with the deletion process on the basis of the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL.

Site Location

The Delatte Metals Site includes the Delatte Metals, Inc., (DMI) facility, the abandoned North Ponchatoula Battery facility and parts of the offsite areas. The Site is located at 19113 Weinberger Road in Tangipahoa Parish about 2.5 miles southeast of Ponchatoula, Louisiana with an estimated 645 persons living within one-mile. The combined area of the two facilities is approximately 18.9 acres. The approximate total area of the Site, encompassing both facilities and offsite areas, is 56.8 acres.

Site History

During the 1960s, under the name Delatte and Fuscia Battery Company, battery recycling and smelting operations were conducted in the DMI facility area of the Site. In the early 1980s, the facility name was changed to Delatte Metals, Inc. The operations performed at the facility included spent lead-acid battery demolition to remove associated lead plates and the subsequent lead smelting of the lead plates to produce lead ingots. The typical process at the facility involved sawing off the tops of the batteries and removing the lead plates in the battery saw building. After opening the battery cases, the battery acid was drained into a sump. Before the mid-1980s, the acid was pumped from the sump to an unlined pond located on the north side of the Site. After the closure of the acid pond, the acid was pumped through an underground pipe to the acid tank farm. The spent acid was then shipped offsite for recycling. Similar operations took place at the North Ponchatoula Battery (NPB) facility.

From the mid-1980s into the 1990s, the Louisiana Department of Environmental Quality (LDEQ) worked with both facilities in attempts to correct deficiencies in environmental practices. In September 1997, however, Louisiana Governor Mike Foster formally requested that the Site be addressed by EPA and listed on the Superfund National Priorities List (NPL). A Hazard Ranking System documentation package was subsequently prepared and the Site was proposed for addition to the NPL in July 1998. On January 19, 1999, EPA formally announced the addition of the Site to the NPL in the Federal Register.

Removal Action

On July 24, 1998, EPA signed an Action Memorandum for a time-critical removal action at the Site. The action addressed occupied residential properties as well as stabilization, removal, and offsite disposal of crushed battery casings, slag piles, settling basin solids, waste in tote bags and waste piles located inside the battery saw building. Onsite activities began on September 9, 1998, with the establishment of a command post and associated utilities, delivery of heavy equipment, construction of the loading truck staging area, and the identification of truck routes. Transportation and disposal of contaminated battery chips, battery mud and debris began on October 12, 1998. Removal activities were completed in less than six months and resulted in the removal of approximately 30,000 tons of crushed battery casings, smelter slag, smelter ash, and other source material; 68 tons of grossly contaminated smelter equipment; 28 drums of lead contaminated oil and oil debris; approximately 6,617 gallons of sulfuric acid; and, approximately 650 tons of scrap metal. In addition, contaminated sediment in a roadside ditch along Weinberger Road was excavated to facilitate the installation of a public water supply pipe, and contaminated soil found in two residential properties was excavated.

Remedial Investigation and Feasibility Study (RI/FS)

During 1999 and 2000, EPA conducted field sampling and investigation activities at the Site including collection and analyses of soil, sediment, surface water, ground water, and animal tissue samples. The Remedial Investigation (RI) and Feasibility Study (FS) reports identified the types, quantities, and locations of contaminants found in these samples and developed ways to address the contamination problems. A treatability study report was also completed to assess the applicability of different remedial technologies. In addition, a Human Health Risk Assessment and an Ecological Risk Assessment were performed to determine the current and future effects of contaminants on human health and the environment.

Lead was identified as the one contaminant of concern that posed the greatest potential risk to human health and ecological receptors as well as natural habitats. Lead was detected in all onsite surface and shallow subsurface soil sampling locations; in several surface and shallow subsurface offsite soil sampling locations; in sediment and surface water samples collected from various offsite ecological habitats and Selsers Creek; and, in ground water samples from the first water-bearing zone, which is a very acidic environment and tends to flow towards Selsers Creek.

Record of Decision

The Proposed Plan was presented to the community during a public meeting held on July 31, 2000. After review and response to comments received during the 30-day comment period, the Record of Decision was signed on September 26, 2000. The Remedial Action Objectives (RAOs) for the Site were to:

• Treat or remove the principal threat wastes at the Site;

• Reduce or eliminate the direct contact threats associated with contaminated soil; and,

• Minimize or eliminate contaminant migration to the ground water and surface waters to levels that ensure beneficial reuse of these resources.

In order to achieve these RAOs, certain numerical cleanup levels would have to be maintained or attained in the various environmental media. These were:

• Soil: Industrial: 1,700 milligrams per kilogram (mg/kg) lead; Residential: 500 mg/kg lead; and, Ecological: 80 mg/kg lead.

• Sediment: Industrial: Not Applicable (n/a); Residential: n/a; and, Ecological: 100 mg/kg lead.

• Ground Water: Industrial: n/a; Residential: 15 micrograms per liter(μg/l) lead; and, Ecological: n/a.

• Surface Water: Industrial: n/a; Residential: n/a; and, Ecological: 0.6μg/l lead.

• Air: Industrial: n/a; Residential: n/a; and, Ecological: n/a.

Lead was the most abundant and widespread heavy metal at the Site and was co-located at the same locations where other heavy metals were detected. Since the source of the contamination was mainly in surface and subsurface soils, the selected remedy was designed primarily to address the soil contamination. (The reference to soil contamination includes sediment.) It was expected that when the soil cleanup levels for lead were achieved, the other forms of cleanup would also be achieved: Sediment to 80 mg/kg lead for ecological; ground water to 15 μg/l lead for residential; and, surface water 0.6 μg/l lead for ecological. Because the other metals were found at the same locations as lead, it was expected that they would be addressed also.

Therefore, the measurement of success at accomplishing the RAOs will be based on the media specific numerical cleanup levels that will be achieved in the various designated areas of soil contamination. These are:

• Industrial: 1,700 mg/kg lead in soil;

• Residential: 500 mg/kg lead in soil; and,

• Ecological: 80 mg/kg lead in soil.

This ROD addressed the contamination in the soil, sediment, surface water and ground water at the Site by:

• Immobilization to address the principal threat wastes in the soil (thus eliminating the source of contamination for sediment, surface water, ground water);

• Offsite disposal to transport immobilized wastes to a disposal facility;

• Permeable treatment walls to neutralize the acidity of the shallow ground water and limit the migration of dissolved metals;

• Institutional controls (ICs) in the form of deed notices to inform the public of Site conditions; and,

• Ground water monitoring to ensure the effectiveness of the selected remedy.

Response Actions

The EPA issued a Remedial Action (RA) work assignment to the contractor on September 26, 2002, with onsite RA construction beginning on November 19, 2002.

On January 8, 2003, EPA revised the cleanup criteria based on additional soil sample data collected during the RA. The purpose of this sampling was to better delineate areas designated for remediation. These data allowed areas to be more easily separated into future land use categories of ecological, residential, or industrial and then remediated based on the cleanup criteria for that particular use. Additional ecological areas not representative of drainage areas were reassessed using revised toxicity values resulting in a 200 mg/kg cleanup level for these areas. The following revisions were implemented.

1. For ecological excavation areas identified during the RI and RD, the soil remediation level was maintained at 80 mg/kg.

2. For additional ecological areas that were identified during the RA, soil was remediated to or below 200 mg/kg (around grids H-1, I-1, and O-1).

3. Sample point RA-16, near Grid O-1, with a concentration of 227 mg/kg was considered as effectively meeting the 200 mg/kg target. This determination was based on the isolation of the sample location, the existence of sample points with lower concentrations surrounding the area, and the conservative assumptions that were used to determine risk.

4. No excavation was to be performed within the dripline of the large magnolia tree in Grid I-1. The landowner had requested that the large magnolia tree not be removed. After reviewing additional sampling data from the area, removal of soil within the dripline of the magnolia was not necessary.

5. Onsite soils were to be excavated to 1,700 mg/kg both horizontally and vertically.

6. Offsite soils (except those identified in item 2) were to be excavated using the following criteria:

• 0 to 6 inches below ground surface (bgs)—80 mg/kg lead in soil (ecological standard);

• 6 to 24 inches bgs—500 mg/kg lead in soil (residential standard); and,

• > 24 inches bgs—1,700 mg/kg lead in soil (industrial standard).

On April 9, 2003, EPA revised the cleanup criteria for M-, P-, and Q-excavation grids since the areas were considered residential rather than ecological. These grids were located in established ecological environments. Because of intrusive remediation activities that eliminated these ecological environments and the possible reuse as residential, these areas were redefined as residential and thus required a residential cleanup value. Excavation within the tributary still used the ecological criteria. The revised criteria listed below were used.

• For soils 0 to 24 inches bgs, the cleanup level was 500 mg/kg lead in soil (residential standard).

• For soils greater than 24 inches bgs, the cleanup level was 1,700 mg/kg lead in soil.

On February 18, 2003, staff from the EPA, the U.S. Fish and Wildlife Service, the LDEQ, and Tetra Tech met to discuss the remediation of the cypress swamp. On May 15, 2003, EPA revised the cleanup criteria for Cypress Swamp. Weighing the detrimental effects of habitat destruction versus estimated risk in the Cypress Swamp area indicated that limiting remedial efforts to the removal of highly-contaminated sediments will serve to adequately protect current and future human health and the environment. Therefore, the sediments with concentrations greater than 500 mg/kg lead were removed to a depth of 6 inches (after removal of overlying detrital material) and back-filled with 6 inches of clean fill material. This removed a large portion of the contamination and provided a barrier to future ecological exposure to remaining contamination, while maintaining the hydrology and habitat value of the area.

Excavation of the soils and waste pits began in December 2002 and was completed in July 2003. Following soil excavation, surface restoration activities were conducted for onsite and offsite areas. Installation of the permeable reactive barrier began in February 2003 and was completed in June 2003.

The EPA and the State conducted the RA as planned and completed a pre-final inspection on July 30, 2003. During the inspection, several punch list items were identified for completion; however, RA construction activities had been completed according to design specifications. The preliminary close out report was signed on September 22, 2003, initiating the operational and functional period. The final inspection was conducted on July 21, 2004. All punch list items identified during the pre-final inspection were completed, and no other outstanding items existed. The final Remedial Action report was accepted on September 22, 2004, initiating the Operation and Maintenance phase under the lead of the Louisiana Department of Environmental Quality (LDEQ). The final close out report was signed on March 7, 2005, signifying that all response actions at the Site were successful and no further Superfund response is required to protect human health and the environment.

On September 22, 2004, LDEQ filed the ICs for the onsite properties. The ICs are conveyance notices which are filed with the Tangipahoa Parish Clerk of Court Office and notify the public that the properties have contaminant levels present that are acceptable for only industrial/commercial use of the property as described in LDEQ's Risk Evaluation/Corrective Action Program (RECAP), June 20, 2000, Section 2.9. In accordance with LAC 33:I., Chapter 13, if land use changes from industrial to non-industrial, the property owner(s) shall notify the LDEQ within 30 days so that the Site shall be reevaluated to determine if conditions are appropriate for the proposed land use. Should the property owner provide adequate proof that the property no longer contains waste restricting use and the secretary (State), or designee, grants approval, the notice may be removed from the mortgage and conveyance records of the parish in which the property is located. If the secretary, or designee, objects to the removal, or fails to make a final determination within ninety days, the property owner may petition the court in the parish where the property is located for removal of the notice and after a contradictory hearing between the landowner, the clerk of court, and the secretary or his designee, the court may grant such relief upon adequate proof by the petitioner that the property no longer contains the waste which may pose a potential threat to health or to the environment.

The remedial action set forth in the ROD was consistent with, and complied with, the Superfund Amendments and Reauthorization Act (SARA) of 1986, P.L. 99-499, which substantially amended CERCLA, 42 U.S.C. 9601 et seq., and the NCP. SARA codified many of the existing requirements under the then existing NCP (1985), as well as adding, among other things, a new section 121 to CERCLA, which provided direction for selection of remedial actions compliant with applicable or relevant and appropriate Federal, State, and Local laws regulations and requirements, 42 U.S.C. 9621.

Cleanup Standards

The EPA contract for the remedial action contained provisions for performing sampling during all remedial activities in order to verify that remedial objectives were met, to ensure quality control and assurance for all excavation and construction activity, and to ensure protection and safety of the public, the environment, and the onsite worker. Nonhazardous wastes were sent to the BFI Colonial Landfill in Sorrento, Louisiana, and hazardous wastes were transported by a hazardous waste transporter to the Clean Harbors Landfill in Waynoka, Oklahoma.

Air: Meteorological conditions were monitored on a continuous basis. Real-time and integrated air monitoring was conducted near excavations areas, soil stockpiles, the soil treatment work area, and various work zones onsite, as well as along the Site perimeter. Air monitoring ensured that there was no onsite exposure and no offsite migration of Site contaminants.

Excavation: The surveyor established the Site boundaries, clearing and grubbing limits, and onsite and offsite excavation limits. Field sampling and lab confirmation sampling were done for all excavation areas. Excavation bottoms with sample results that exceeded the cleanup criteria were then excavated an additional 1 foot in depth by 10 feet by 10 feet horizontally, and the area was resampled to ensure that the prescribed cleanup level had been met. This process was iterated until the cleanup criteria was met.

Backfill: All imported backfill material was sampled and analyzed to ensure that priority pollutant metals were within allowable limits before being accepted.

Solidification/Stabilization: Five-point composite samples from each treated stockpile were submitted to the laboratory and analyzed for Resource Conservation and Recovery Act Toxicity Characteristic Leachate Procedure (TCLP) metals to ensure that all disposal criteria were met. Stockpiles in which treatment confirmation samples exceeded disposal requirements were reprocessed and resampled for the failed parameter before disposal as nonhazardous waste.

Permeable Reactive Barrier Wall: Before full scale installation, compatibility tests were performed between the ground water and the bio-polymer, permeability testing was conducted to verify that the backfill material was more permeable than the water-bearing zone, and a test section was installed and monitored to ensure PRB effectiveness. The alignment of the PRB wall was surveyed prior to installation, and during installation, a geologist was onsite to examine the excavated material and to determine when the impermeable layer was reached.

Storm Water Discharge: Precipitation and ground water from excavations were collected and treated to meet the discharge parameters. Water was discharged to the creek only after sample analyses verified that the LDEQ discharge parameters had been met.

Ground Water Wells: The 15 ground water monitoring wells were plugged and abandoned in accordance with Louisiana State regulations.

Concrete Demolition: The concrete slabs were demolished, decontaminated, and analyzed for TCLP metals. Debris that passed TCLP metals limits was utilized as onsite backfill. Concrete demolition debris that failed to meet the TCLP metals limits were shipped to and disposed as hazardous waste.

Wastes addressed during remedial action include:

• Approximately 41,000 cubic yards (cy) of onsite and 1,400 cy of offsite soil were excavated, treated, and disposed of at an offsite landfill. The total weight of soil disposed of at the landfill was 85,444 tons. Approximately 10,000 cy of offsite soil meeting onsite cleanup levels were placed in the onsite excavations.

• An estimated 1.5 million gallons of water were treated and discharged.

• Approximately 450 tons of concrete were disposed of as hazardous waste.

• A total of 33 acres was cleared and grubbed and all trees, shrubs, and stumps were chipped and scattered onsite.

• Miscellaneous debris encountered during the remedial effort at the site were transported to the landfill and disposed of as nonhazardous waste. Examples of miscellaneous debris include telephone poles, old tires, drums, Polyvinyl Chloride pipe, wood pieces, household trash, and other solid waste.

• Approximately 300 drums containing investigation-derived waste were disposed.

• Approximately 0.5 cy of Asbestos Containing Material were removed from a storage building, double-bagged, and disposed as nonhazardous waste material.

Summary of the Explanation of Significant Differences (ESD)

The EPA issued an ESD for the Site to document the increase in cost; increase in waste volume treated and disposed; and, revisions to the cleanup values. No other significant differences exist between the final remedial action and the selected remedy presented in the 2000 ROD. All components of the 2000 ROD, including RAOs and remedial technologies, were instituted in order to achieve protection of human health and the environment. The total volume of waste treated and disposed was 85,444 tons; this represents an increase of 32,794 tons over the estimated 52,650 tons presented in the 2000 ROD. Battery wastes encountered at depths and locations not previously identified were defined as principal threat wastes; therefore, removal, treatment and disposal were necessary to eliminate the source of contamination for sediment, surface water, and ground water. No source materials discovered during remedial action were left in place above the risk-based cleanup levels. The final remedial action cost of $13.1 million is an increase of $3.2 million over the ROD estimate of $9.9 million. Cleanup values were established for additional onsite and offsite areas identified for cleanup during the remedial action (see Response Actions section). More detail can be found in the Final ESD dated December 14, 2004.

Operation and Maintenance (O&M)

Long-term O&M activities will be required at the site in order to ensure the effectiveness, protectiveness, and integrity of the remedy and are discussed in the site Final O&M manual dated February 18, 2004. O&M activities will be conducted under the State and will include a ground water monitoring program, routine maintenance, and site inspections. The total estimated cost for all O&M activities over a 30-year period at a discount rate of 7% is $557,000.

Ground water monitoring activities will include well sampling to determine that the ground water pH downgradient of the PRB is increasing, metals concentrations in the ground water downgradient of the PRB are decreasing, and the metals concentrations in the ground water of the third water-bearing zone are not increasing. Quarterly monitoring of the well network will be required to obtain at least eight time-independent data points that will be evaluated using statistical tools to quantitatively assess metals concentrations and pH. Intra-well trends and population trends (upgradient and downgradient) in metals concentrations and pH will be used to evaluate the efficacy of the remedy and to recommend changes to the monitoring program, as necessary.

Routine maintenance and visual site inspections will be performed at the Delatte Site to ensure the integrity of the RA. Inspections will be made of the monitoring network, the institutional controls (ICs), and the PRB.

The monitoring wells will be maintained and repaired as necessary. If during O&M, the monitoring program changes to remove wells from the sampling schedule, then these wells will be plugged and abandoned.

The integrity of the PRB cap will be inspected and documented. If subsidence results in a low area developing over the PRB, additional soil may need to be imported to raise the soil higher than the surrounding areas to minimize infiltration. Additionally, the soil overlying the PRB will be inspected for erosion, cracks, or other pathways that could allow for surface water to enter the subsurface.

The deed files for the property will be inspected during the time of sampling to ensure that ICs remain in place. General Site inspection will also document any reuse of the Site to ensure that it is within the allowable parameter, industrial, as set by the IC. Reporting of any additional information or discussion related to future reuse, either city planning or developer purchasing, will also be included.

Five-Year Review

Consistent with section 121(c) of CERCLA and requirements of the OSWER Directive 9355.7-03B-P (“Comprehensive Five-Year Review Guidance”, June 2001), a five-year review is required at the Site. The Directive requires EPA to conduct statutory five-year reviews at sites where, upon attainment of ROD cleanup levels, hazardous substances remaining within restricted areas onsite do not allow unlimited use of the entire site.

Since hazardous substances remain onsite, this Site is subject to five-year reviews to ensure the continued protectiveness of the remedy. Based on the five-year results, EPA will determine whether human health and the environment continues to be adequately protected by the implemented remedy. The first five-year review will be completed no later than November 19, 2007.

Community Involvement

Public participation activities have been satisfied as required in CERCLA section 113(k), 42 U.S.C. 9613(k), and CERCLA section 117, 42 U.S.C. 9617. Documents in the deletion docket which EPA relied on for recommendation of the deletion from the NPL are available to the public in the information repositories.

V. Deletion Action

The EPA, with concurrence of the State of Louisiana, has determined that all appropriate responses under CERCLA have been completed, and that no further response actions, under CERCLA, other than O&M and five-year reviews, are necessary. Therefore, EPA is deleting the Site from the NPL.

Because EPA considers this action to be noncontroversial and routine, EPA is taking it without prior publication. This action will be effective August 8, 2005 unless EPA receives adverse comments by July 8, 2005. If adverse comments are received within the 30-day public comment period, EPA will publish a timely withdrawal of this direct final notice of deletion before the effective date of the deletion and it will not take effect. The EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: May 23, 2005.
Lawrence E. Starfield,
Deputy Regional Administrator, Region 6.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B—[Amended]

2. Table 1 of Appendix B to Part 300 is amended under Louisiana (“LA”) by removing the Site name “Delatte Metals”.

[FR Doc. 05-11270 Filed 6-7-05; 8:45 am]

BILLING CODE 6560-50-P